DEPARTMENT OF LABOR

Employment and Training Administration

[TA-W-82,145, TA-W-82,145A, TA-W-82,145B, TA-W-82,145C, TA-W-82,145D]

Hutchinson Technology Incorporated Eau Claire, Wisconsin; Hutchinson Technology Incorporated Including On-Site Leased Workers From Atterro Plymouth, Minnesota; Express Employment Professionals Working On-Site at Hutchinson Technology Incorporated Eau Claire, Wisconsin; Doherty Staffing Solutions Working On-Site at Hutchinson Technology Incorporated Eau Claire, Wisconsin; Hutchinson Technology Incorporated Including On-Site Leased Workers From Doherty Staffing Solutions Hutchinson, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on December 11, 2012, applicable to workers of Hutchinson Technology Incorporated, Eau Claire, Wisconsin (TA-W-82,145), Hutchinson Technology Incorporated, including on-site leased workers from Atterro, Plymouth, Minnesota (TA-W-82,145A), Express Employment Professionals, working on-site at Hutchinson Technology Incorporated, Eau Claire, Wisconsin (TA-W-82,145B), and Doherty Staffing Solutions, working on-site at Hutchinson Technology Incorporated, Eau Claire, Wisconsin (TA-W-82,145C). The Department's notice of determination was published in the Federal Register on January 4, 2013 (78 FR 770).

At the request of State Workforce Office, the Department reviewed the certification for workers of the subject firm. The workers are engaged in activities related to the production of suspension arms for hard disk drives.

The state workforce office reports that workers from Hutchinson Technology Incorporated, Hutchinson, Minnesota are being affected by the same shift in production of suspension arms for hard disk drives to a foreign country that was the cause of the separations for the subject certification. The worker group includes on-site leased workers from Doherty Staffing.

Workers of Hutchinson Technology Incorporated, Hutchinson, Minnesota were previously certified under petition number TA-W-80,363 that expired on September 7, 2013.

The amended notice applicable to TA-W-82,145, is hereby issued as follows:

All workers of Hutchinson Technology Incorporated, Eau Claire, Wisconsin (TA-W-82,145), who became totally or partially separated from employment on or after April 16, 2012 through December 11, 2014, and all workers in the group threatened with total or partial separation from employment on the date of certification through December 11, 2014, are eligible to apply for adjustment assistance under Chapter 2 of Title II of the Trade Act of 1974, as amended;

AND

All workers of Hutchinson Technology Incorporated, including on-site leased workers from Atterro, Plymouth, Minnesota (TA-W-82,145A), Express Employment Professionals, working on-site at Hutchinson Technology Incorporated, Eau Claire, Wisconsin (TA-W-82,145B), and Doherty Staffing Solutions, working on-site at Hutchinson Technology Incorporated, Eau Claire, Wisconsin (TA-W-82,145C), who became totally or partially separated from employment on or after November 9, 2011 through December 11, 2014, and all workers in the group threatened with total or partial separation from employment on the date of certification through December 11, 2014, are eligible to apply for adjustment assistance under Chapter 2 of Title II of the Trade Act of 1974, as amended.

AND

All workers of Hutchinson Technology Incorporated, including on-site leased workers from Doherty Staffing Solutions, Hutchinson, Minnesota, who became totally or partially separated from employment on or after September 8, 2013 through December 11, 2014, and all workers in the group threatened with total or partial separation from employment on the date of certification through December 11, 2014, are eligible to apply for adjustment assistance under Chapter 2 of Title II of the Trade Act of 1974, as amended.

Signed in Washington, DC, this 20th day of June, 2014.
Del Min Amy Chen,
Certifying Officer, Office of Trade Adjustment Assistance.

[FR Doc. 2014-15851 Filed 7-7-14; 8:45 am]

BILLING CODE 4510-FN-P